DEPARTMENT OF HOMELAND SECURITY

U.S. Customs and Border Protection

Request for Applicants for Appointment to the Commercial Customs Operations Advisory Committee

AGENCY: U.S. Customs and Border Protection, Department of Homeland Security.

ACTION: Request for applicants for appointment to the Commercial Customs Operations Advisory Committee (Committee).

SUMMARY: U.S. Customs and Border Protection is requesting that individuals who are interested in serving on the Commercial Customs Operations Advisory Committee (Committee) apply for membership. The Committee provides advice and makes recommendations to the Secretaries of the Department of the Treasury and the Department of Homeland Security on all matters involving the commercial operations of U.S. Customs and Border Protection and related functions.

DATES: Applications for membership should be submitted to U.S. Customs and Border Protection as indicated in the ADDRESSES section on or before December 19, 2025.

ADDRESSES: If you wish to apply for membership, your application should be submitted by one of the following means:

• Email: latoria.p.martin@cbp.dhs.gov.

• Mail: Ms. Latoria Martin, Office of Trade Relations, U.S. Customs and Border Protection, 1300 Pennsylvania Avenue NW, Room 3.5A, Washington, DC 20229.

FOR FURTHER INFORMATION CONTACT: Ms. Latoria Martin, U.S. Customs and Border Protection, 1300 Pennsylvania Avenue NW, Room 3.5A, Washington, DC 20229. Email: latoria.p.martin@cbp.dhs.gov; telephone 202-344-1440.

SUPPLEMENTARY INFORMATION: Section 109 of the Trade Facilitation and Trade Enforcement Act of 2015 (Pub. L. 114-125, 130 Stat. 122, February 24, 2016) established the Commercial Customs Operations Advisory Committee (Committee). The Committee is an advisory committee established in accordance with the provisions of the Federal Advisory Committee Act, 5 U.S.C. chapter 10, and Section 109 of the Trade Facilitation and Trade Enforcement Act of 2015. The Committee advises the Secretaries of the Department of the Treasury (Treasury) and Department of Homeland Security on the commercial operations of U.S. Customs and Border Protection and related Treasury and Department of Homeland Security functions. In accordance with Section 109 of Trade Facilitation and Trade Enforcement Act of 2015, the Committee shall:

(1) advise the Secretaries of the Treasury and the Department of Homeland Security on all matters involving the commercial operations of U.S. Customs and Border Protection, including advising with respect to significant changes that are proposed with respect to regulations, policies, or practices of U.S. Customs and Border Protection;

(2) provide recommendations to the Secretaries of the Treasury and the Department of Homeland Security on improvements to the commercial operations of U.S. Customs and Border Protection;

(3) collaborate in developing the agenda for Committee meetings; and

(4) perform such other functions relating to the commercial operations of U.S. Customs and Border Protection as prescribed by law or as the Secretaries of the Treasury and the Department of Homeland Security jointly direct.

Balanced Membership Plan

The Committee consists of 20 members who are selected from representatives of the trade or transportation communities served by U.S. Customs and Border Protection, or others who are directly affected by U.S. Customs and Border Protection commercial operations and related functions. The members shall represent the interests of individuals and firms affected by the commercial operations of U.S. Customs and Border Protection and be appointed without regard to political affiliation. The members will be appointed by the Secretaries of the Treasury and the Department of Homeland Security from candidates recommended by the Commissioner of U.S. Customs and Border Protection. In addition, members will represent major regions of the country.

Committee Meetings

The Committee meets once each quarter, although additional meetings may be scheduled. The Committee meetings may be held in Washington, DC, or near a U.S. Customs and Border Protection port of entry. The members do not receive travel reimbursement or per diem.

Committee Membership

Membership on the Committee is specific to the appointee and a member may not send an alternate to represent him or her at a Committee meeting. The length of the member's term is determined by the Secretaries, not to exceed three years. Regular attendance is essential; a member who is absent for two public meetings within a calendar year, or does not participate in the Committee's work, may be removed from the Committee.

Members currently serving on the Committee are eligible to re-apply for membership if they are not in their second consecutive term and they have met the attendance requirements. A new application letter is required and may incorporate copies of previously filed application materials noted herein. Members will not be considered Special Government Employees and will not be paid compensation by the Federal Government for their representative services with respect to the Committee.

Application for Committee Appointment: Any interested person wishing to serve on the Committee must provide the following, in the manner and by the deadline noted above:

• Statement of interest and reasons for application;

• Complete professional resume;

• Home address and telephone number;

• Work address, telephone number, and email address;

• Statement of the industry you represent; and

• Statement agreeing to submit to pre-appointment mandatory background and tax checks.

All documents must be in Microsoft Word format. A national security clearance is not required for the position.

Signing Authority

Rodney S. Scott, Commissioner, having reviewed and approved this document, has delegated the authority to electronically sign this document to the Director (or Acting Director, if applicable) of the Regulations and Disclosure Law Division of U.S. Customs and Border Protection, for purposes of publication in the Federal Register.

Robert F. Altneu,
Director, Regulations & Disclosure Law Division, Regulations & Rulings, Office of Trade, U.S. Customs and Border Protection.

[FR Doc. 2025-20270 Filed 11-18-25; 8:45 am]

BILLING CODE 9111-14-P